FEDERAL COMMUNICATIONS COMMISSION

Sunshine Act Meeting

October 12, 2000.

Deletion of Agenda Item From the October 12 Open Meeting

The following item has been deleted from the list of agenda items scheduled for consideration at the October 12, 2000, Open Meeting and previously listed in the Commission's Notice of October 5, 2000.

Item No. 3.

Bureau: Wireless Telecommunications.

Title: Promotion of Competitive Networks in Local Telecommunications Markets (WT Docket No. 99-217); Wireless Communications Association International, Inc., Petition for Rule Making to Amend Section 1.4000 of the Commission's Rules to Preempt Restrictions on Subscriber Premises Reception or Transmission Antennas Designed to Provide Fixed Wireless Services; Implementation of the Local Competition Provisions in the Telecommunications Act of 1996 (CC Docket No. 96-98); and Review of Sections 68.104, and 68.213 of the Commission's Rules Concerning Connection of Simple Inside Wiring to Telephone Network (CC Docket No. 88-57).

Summary: The Commission will consider a First Report and Order and Further Notice of Proposed Rule Making in WT Docket No. 99-217, a Fourth Report and Order and Memorandum Opinion and Order in CC Docket No. 96-98, and a Memorandum Opinion and Order in CC Docket No. 88-57), regarding obstacles to consumer's choice of telecommunications providers in multiple tenant environments.

Federal Communications Commission.
Magalie Roman Salas,
Secretary.

[FR Doc. 00-26781 Filed 10-13-00; 2:49 pm]

BILLING CODE 6712-01-M